DEPARTMENT OF TRANSPORTATION

Federal Aviation Administration

14 CFR Part 39

[Docket No. FAA-2020-0985; Project Identifier 2018-SW-064-AD]

RIN 2120-AA64

Airworthiness Directives; Airbus Helicopters Deutschland GmbH

AGENCY: Federal Aviation Administration (FAA), DOT.

ACTION: Proposed rule; withdrawal.

SUMMARY: The FAA is withdrawing a notice of proposed rulemaking (NPRM) that proposed to adopt a new airworthiness directive (AD) that would have applied to certain Airbus Helicopters Deutschland GmbH Model EC135P1, EC135T1, EC135P2, EC135T2, EC135P2+, EC135T2+, EC135P3, and EC135T3 helicopters. The NPRM was prompted by a deviation from a new manufacturing process and a determination that the deviation resulted in a reduced life limit (service life limit) for certain tail rotor (TR) blades. The NPRM would have required a reduced life limit for those TR blades and require a new life limit for certain other TR blades. Since issuance of the NPRM, the FAA has determined that the deviation from the new manufacturing process does not reduce the life limit of certain TR blades and that a new life limit is not needed for certain other blades. Accordingly, the NPRM is withdrawn.

DATES: As of April 2, 2021, the proposed rule, which was published in the Federal Register on November 9, 2020 (85 FR 71286), is withdrawn.

ADDRESSES:

Examining the AD Docket

You may examine the AD docket on the internet at https://www.regulations.gov by searching for and locating Docket No. FAA-2020-0985; or in person at Docket Operations between 9 a.m. and 5 p.m., Monday through Friday, except Federal holidays. The AD docket contains this AD action, any comments received, and other information. The street address for Docket Operations is U.S. Department of Transportation, Docket Operations, M-30, West Building Ground Floor, Room W12-140, 1200 New Jersey Avenue SE, Washington, DC 20590.

FOR FURTHER INFORMATION CONTACT: Kristin Bradley, Aerospace Engineer, General Aviation & Rotorcraft Section, International Validation Branch, Compliance & Airworthiness Division, FAA, 10101 Hillwood Pkwy., Fort Worth, TX 76177; telephone 817-222-5110; email Kristin.Bradley@faa.gov.

SUPPLEMENTARY INFORMATION:

Discussion

The FAA has issued an NPRM that proposed to amend 14 CFR part 39 by adding an AD that would apply to the specified products. The NPRM was published in the Federal Register on November 9, 2020 (85 FR 71286). The NPRM was prompted by a deviation from a new manufacturing process and a determination that the deviation resulted in a reduced life limit (service life limit) for certain TR blades.

The NPRM proposed to require a reduced life limit for those TR blades and require a new life limit for certain other TR blades.

Actions Since the NPRM was Issued

Since issuance of the NPRM, the FAA determined that the deviation from the new manufacturing process does not reduce the life limit of certain TR blades and that a new life limit is not needed for certain other blades. Affected parts can continue operation until the normal life limit with no compensation factor applied to reduce the life of the part. Therefore, the FAA has determined that AD action is not appropriate.

Withdrawal of the NPRM constitutes only such action and does not preclude the FAA from further rulemaking on this issue, nor does it commit the FAA to any course of action in the future.

Comments

The FAA gave the public the opportunity to comment on the NPRM. The following presents the comments received on the NPRM and the FAA's response to each comment.

Request To Withdraw NPRM

Airbus Helicopters requested that the NPRM be withdrawn. The commenter stated that EASA would be cancelling EASA AD 2018-0168, dated July 27, 2018, which prompted this NPRM. The commenter also noted that Airbus Helicopters service information was revised to remove the reduced life limit for the TR blades.

The FAA agrees with the commenter's request. Since publication of the NPRM, EASA has issued EASA AD 2018-0168R1, dated December 18, 2020 (EASA AD 2018-0168R1). EASA has determined, and the FAA concurs, that the deviation in the new manufacturing process does not affect the life limit of the TR blades. Airbus Helicopters has revised the corresponding service information accordingly. The revised EASA AD allows continued operation of the affected parts until the normal life limit. The FAA has determined that this NPRM is unnecessary and will withdraw this NPRM.

Request To Delay Issuance of the AD

One commenter requested that the FAA delay issuance of the final rule because Airbus Helicopters had revised its service information to restore the original life limits of the TR blades, and based on the revised service information it would appear that EASA will issue a revised AD to revise the life limits accordingly. The commenter asked that the revised EASA AD be taken into account in the final rule.

The FAA acknowledges the commenter's request. As previously stated, the FAA has determined that this NPRM is unnecessary and will withdraw this NPRM.

Request To Include Link To Document Referenced in the NPRM

One commenter requested that the FAA provide a link in the NPRM to the EASA AD that is referred to in the NPRM. The commenter stated that if it is the FAA's new policy to refer to another Civil Aviation Authority's AD it would be more convenient for operators to have a link instead of having to search another website.

The FAA acknowledges the commenter's request. If the FAA would have issued a final rule, the EASA AD would have been incorporated by reference. The material that is incorporated by reference in an FAA AD is available in the AD docket on the internet at https://www.regulations.gov by searching for and locating the applicable AD docket. The AD docket contains the NPRM, any comments received, material that is incorporated by reference, and other information. As previously stated, the FAA has determined that this NPRM is unnecessary and will withdraw this NPRM.

FAA's Conclusions

Upon further consideration, the FAA has determined that the NPRM is unnecessary. Accordingly, the NPRM is withdrawn.

Regulatory Findings

Since this action only withdraws an NPRM, it is neither a proposed nor a final rule. This action therefore is not covered under Executive Order 12866, the Regulatory Flexibility Act, or DOT Regulatory Policies and Procedures (44 FR 11034, February 26, 1979).

List of Subjects in 14 CFR Part 39

Air transportation, Aircraft, Aviation safety, Incorporation by reference, Safety.

The Withdrawal

Accordingly, the notice of proposed rulemaking, Docket No. FAA-2020-0985, which was published in the Federal Register on November 9, 2020 (85 FR 71286), is withdrawn.

Issued on March 25, 2021.
Gaetano A. Sciortino,
Deputy Director for Strategic Initiatives, Compliance & Airworthiness Division, Aircraft Certification Service.

[FR Doc. 2021-06768 Filed 4-1-21; 8:45 am]

BILLING CODE 4910-13-P